OFFICE OF MANAGEMENT AND BUDGET

Acquisition Advisory Panel; Cancellation of an Upcoming Meeting of the Acquisition Advisory Panel

AGENCY: Office of Management and Budget, Executive Office of the President.

ACTION: Cancellation of a Federal Advisory Committee Meeting.

SUMMARY: The Office of Management and Budget is issuing this notice to cancel the January 5, 2006, public meeting of the Acquisition Advisory Panel (AAP or “Panel”) established in accordance with the Services Acquisition Reform Act of 2003.

DATES: The only meeting being cancelled by this notice is the January 5, 2006, meeting.

ADDRESSES: The meeting was to have been held at the Federal Deposit Insurance Corporation (FDIC), Basement auditorium, 801 17th Street, NW., Washington, DC 20434.

FOR FURTHER INFORMATION CONTACT: Members of the public wishing further information concerning this cancellation notice or any future meetings or the Acquisition Advisory Panel itself, should contact Ms. Laura Auletta, Designated Federal Officer (DFO), at: laura.auletta@gsa.gov, phone/voice mail (202) 208-7279, or mail at: General Services Administration, 1800 F Street, NW., Room 4006, Washington, DC, 20405.

SUPPLEMENTARY INFORMATION: (a) Background: The cancelled meeting was originally announced in the Federal Register at 70 FR 67761 on November 8, 2005. Only the January 5, 2006, meeting is being cancelled.

Laura Auletta,
Designated Federal Officer (Executive Director), Acquisition Advisory Panel.

[FR Doc. 05-24605 Filed 12-27-05; 8:45 am]

BILLING CODE 3110-01-P